DEPARTMENT OF AGRICULTURE

Natural Resources Conservation Service

Commodity Credit Corporation

[Docket No. NRCS-2014-0004]

Notice of Request for Revision of a Currently Approved Information Collection

AGENCY: Natural Resources Conservation Service (NRCS) and the Commodity Credit Corporation (CCC), United States Department of Agriculture (USDA).

ACTION: Notice and request for comments.

SUMMARY: In accordance with the Paperwork Reduction Act of 1995 (44 U.S.C. Chapter 35), this notice announces NRCS' intention to request an extension for, and a revision to, a currently approved information collection for Long-Term Contracting.

DATES: Effective Date: This is effective May 20, 2014.

Comment Date: Submit comments on or before July 21, 2014.

ADDRESSES: Comments should be submitted, identified by Docket Number NRCS-2014-0004, using any of the following methods:

• Federal eRulemaking Portal: http://www.regulations.gov. Follow the instructions for submitting comments.

• Mail: Public Comments Processing, Attention: Docket No. NRCS-2014-0004, Regulatory and Agency Policy Team, Strategic Planning and Accountability, Department of Agriculture, Natural Resources Conservation Service, 5601 Sunnyside Avenue, Building 1-1112D, Beltsville, Maryland 20705.

NRCS will post comments on http://www.regulations.gov. In general, personal information provided with comments will be posted. If your comment includes your address, phone number, email, or other personal identifying information, your entire comments, including personal information, may be available to the public. You may ask in your comment that your personal identifying information be withheld from public view, but this cannot be guaranteed.

FOR FURTHER INFORMATION CONTACT: Decunda Duke-Bozeman, Room 6817 South Building, Easement Program Division, U.S. Department of Agriculture, Natural Resources Conservation Service, 1400 Independence Avenue SW., Washington, DC 20250; telephone: (202) 260-9099.

SUPPLEMENTARY INFORMATION: Title: Long-Term Contracting.

OMB Number: 0578-0013.

Expiration Date of Approval: 3 years from date of approval.

Type of Request: To revise a currently approved information collection to update and clarify information in the information collection.

Abstract: The primary objective of NRCS is to work in partnership with the American people and the farming and ranching community to conserve and sustain our natural resources on privately owned land. The purpose of the Long-Term Contracting information collection is to allow for programs to provide Federal technical and financial cost-sharing assistance through long-term contracts to eligible producers, landowners, and entities. These contracts provide for making land use changes and installing conservation measures and practices to conserve, develop, and use the soil, water, and related natural resources on private lands. Under the terms of the agreement, the participant agrees to apply, or arrange to apply, the conservation treatment specified in the conservation plan. In return for this agreement, Federal financial assistance payments are made to the land user, or third party, upon successful application of the conservation treatment. Additionally, NRCS purchases easements for the long-term protection of the property and provides for the protection and management of the property for the life of the easement.

The information collected through this package is used by NRCS to ensure the proper use of program funds.

The programs in this information collection that continue to be subject to the requirements of the Paperwork Reduction Act are listed in Table A. This request will clarify the programs in this information collection. Table B shows only the burden for those programs that are subject to the requirements of the Paperwork Reduction Act. The two new forms added to this information collection are the Agreements for the Purchase of Conservation Easements NRCS-LTP-70 for the Healthy Forests Reserve Program and the NRCS-LTP-80 for the Emergency Watershed Program Floodplain Easement.

Table A—Conservation Programs Subject to the Requirements of the Paperwork Reduction Act
Program | Description
Emergency Conservation Program (ECP) (7 CFR part 701) | USDA Farm Service Agency's ECP provides emergency funding and technical assistance for farmers and ranchers to rehabilitate farmland damaged by natural disasters and for carrying out emergency water conservation measures in periods of severe drought. Funding for ECP is appropriated by Congress.
Emergency Watershed Program (EWP) (7 CFR part 624) | The EWP was initiated in 1950 and is administered by NRCS. It provides technical and financial assistance to local institutions for the removal of storm and flood debris from stream channels and for the restoration of stream channels and levees to reduce the threat to life and property. The program also provides for establishing permanent easements in floodplains with private landowners.
Healthy Forests Reserve Program (HFRP) (7 CFR part 625) | HFRP is a voluntary program established for the purpose of restoring and enhancing forest ecosystems to: 1) Promote the recovery of threatened and endangered species; 2) improve biodiversity; and 3) enhance carbon sequestration. The HFRP was signed into law as part of the Healthy Forests Restoration Act of 2003 and amended by the 2008 Act. The Agricultural Act of 2014 made minor changes to HFRP land eligibility and funding.
Resource Conservation and Development Program (RC&D) | The RC&D was initiated in 1962 and is administered by NRCS. Through this program, NRCS assists multi-county areas in enhancing conservation, water quality, wildlife habitat, recreation, and rural development. The program provides technical and limited financial assistance for the planning and installation of approved projects.
Watershed Protection and Flood Prevention Program (WRFPP) (7 CFR part 622) | The WPFPP, otherwise known as P.L. 566, was initiated in 1954 and is administered by NRCS. It assists State and local units of government in flood prevention, watershed protection, and water management. Part of this effort involves the establishment of conservation practices on private lands to reduce erosion, sedimentation, and runoff.

Table B—Burden for Required Programs Under the Paperwork Reduction Act
Form | Purpose | Program(s) | * Number submitted annually
AD-1153, NRCS-CPA-1200 | Application | EWP, WPFPP, HFRP | 750; Estimated time per participant is .69 per response.
AD-1154, NRCS-CPA-1202 | Contract or Agreement | EWP, HFRP | 150; Estimated time per participant is .69 per response.
AD-1155, NRCS-CPA-1155 | Schedule of Practices/Costs and signature sheet | EWP, WPFPP, HFRP | 300; Estimated time per participant is .75 per response.
AD-1156, NRCS-CPA-1156 | Schedule Modification | EWP, WPFPP, HFRP | 25; Estimated time per participant is .60 per response.
AD-1157 | Option Agreement to Purchase | EWP, HFRP | 165; Estimated time per participant is .69 per response.
AD-1157A | Option Agreement to Purchase Amendment | EWP, HFRP | 120; Estimated time per participant is .69 per response.
AD-1158 | Subordination Agreement and Limited Lien Waiver | EWP, HFRP | 100; Estimated time per participant is .69 per response.
AD-1159 | Notice of Intent to Continue | Not used by any non-exempt programs |
AD-1160 | Compatible Use Authorization | EWP, HFRP | 200; Estimated time per participant is .66 per response.
AD-1161 | Application for Payment | EWP, HFRP | 200; Estimated time per participant is .58 per response.
NRCS-CPA-68 | Conservation Plan | CTA, EWP, HFRP | 2,700; Estimated time per participant is .69 per response.
NRCS-LTP-13, NRCS-CPA-013 | Status/Contract Review | EWP, WPFPP, HFRP | 250; Estimated time per participant is .69 per response.
NRCS-LTP-20, NRCS-CPA-260 | Warranty Easement Deed, Conservation Easement Deed | EWP, HFRP | 150; Estimated time per participant is .69 per response.
NRCS-LTP-70 | Agreement for the Purchase of Conservation Easement | HFRP | 50; Estimated time per participant is .69 per response.
NRCS-LTP-80 | Agreement for the Purchase of Conservation Easement | EWP | 120; Estimated time per participant is .69 per response.
NRCS-LTP-151 | Contract Violation Notification | EWP, HFRP | 20; Estimated time per participant is .69 per response.
NRCS-LTP-152 | Transfer Agreement | EWP, HFRP | 5; Estimated time per participant is 1.0 per response.
NRCS-LTP-153 | Agreement Covering Non-Compliance With Provisions of the Contract | EWP, HFRP | 10; Estimated time per participant is .69 per response.
* The number submitted annually provides the number of forms completed by respondents and the approximate number of hours to complete each form. The response time is taken from the forms themselves as identified in the OMB Disclosure Statement where available.

Estimate of Burden: Public reporting burden for this collection of information is as identified by Form in Table B and ranges from .58 hour to 1 hour per respondent.

Respondents: Program Participants.

Estimated Number of Respondents: 5,315.

Estimated Number of Responses per Respondent: 1.

Estimated Total Annual Burden on Respondents: 3,656.65 hours.

Comments are invited on: (1) Whether the proposed collection of information is necessary for the proper performance of the functions of the agency, including whether the information will have practical utility; (2) the accuracy of the agency's estimate of the burden of the proposed collection of information including the validity of the methodology and assumptions used; (3) ways to enhance the quality, utility, and clarity of the information to be collected; and (4) ways to minimize the burden of the collection of information on those who are to respond, including the use of appropriate automated, electronic, mechanical, or other technological collection techniques or other forms of information technology.

All responses to this notice will be summarized and included in the request for OMB approval. All comments will become a matter of public record.

Signed this May 2, 2014, in Washington, DC.
Jason A. Weller,
Chief, Natural Resources Conservation Service and Vice President, Commodity Credit Corporation.

[FR Doc. 2014-11680 Filed 5-19-14; 8:45 am]

BILLING CODE 3410-16-P